DEPARTMENT OF THE INTERIOR

Bureau of Land Management

[AK-932-5420-EU-L021; AA-085085]

Notice of Application for Recordable Disclaimer of Interest for Lands Underlying Porcupine River in Alaska

AGENCY: Bureau of Land Management, Interior.

ACTION: Notice.

SUMMARY: The State of Alaska has submitted an application for a recordable disclaimer of interest pursuant to section 315 of the Federal Land Policy and Management Act and the regulations contained in 43 CFR 1864. A recordable disclaimer of interest, if issued, will confirm the United States has no valid interest in the subject lands. This notice is intended to notify the public of the pending application and the State's grounds supporting it.

DATES: A final decision on the merit of the application will not be made until 90 days has elapsed from the date of publication of this notice. During the 90-day period, interested parties may submit comments on the State's application, BLM Serial number AA-085085.

ADDRESSES: Comments should be sent to the Chief, Branch of Lands and Realty, BLM Alaska State Office, 222 West 7th Avenue, No. 13, Anchorage, Alaska 99513-7599.

FOR FURTHER INFORMATION CONTACT: Mike Haskins, Branch of Lands and Realty at 907-271-3248 or visit the recordable disclaimer of interest Web site at http://www.ak.blm.gov/ak930/rdi/index.html.

SUPPLEMENTARY INFORMATION: On December 10, 2003, the State of Alaska filed an application for a recordable disclaimer of interest for lands underlying the Porcupine River. The State asserts the river is navigable, and under the Equal Footing Doctrine and Submerged Lands Act of 1953, ownership of the submerged lands automatically passed from the United States to the State at the time of statehood in 1959. The State's evidence of navigability of the Porcupine River includes: a letter dated May 13, 1974, from the BLM Alaska State Director, an administrative navigability determination made by the BLM dated April 21, 1983, and a reference to the Washington Treaty signed on May 8, 1871, by the United States and Great Britain. The treaty guaranteed the use of certain navigable rivers crossing the International Boundary between Alaska and Canada, and pursuant to Article XXVI of the treaty, navigation rights “for the purposes of commerce” on the Porcupine River were permanently established.

The application is for the bed of the Porcupine River and all interconnecting sloughs between the ordinary high water marks on its banks from the Alaska/Canada International Border in sections 22 and 27, T. 30 N., R. 30 E., Fairbanks Meridian (FM), Alaska, downstream about 225 miles to its confluence with the Yukon River within T. 20 N., R. 10 E. and T. 20 N., R. 11 E., FM.

The State did not identify any known adverse claimant or occupant of the affected lands.

Dated: January 30, 2004.
Mike Haskins,
Chief, Branch of Lands and Realty.

[FR Doc. 04-5237 Filed 3-8-04; 8:45 am]

BILLING CODE 4310-JA-P